DEPARTMENT OF THE TREASURY

Agency Information Collection Activities; Submission for OMB Review; Comment Request; Departmental Offices Information Collection Request

AGENCY: Departmental Offices, U.S. Department of the Treasury.

ACTION: Notice.

SUMMARY: The U.S. Department of the Treasury, as part of its continuing effort to reduce paperwork and respondent burden, invites the general public and other federal agencies to take this opportunity to comment on this continuing information collection, as required by the Paperwork Reduction Act of 1995. The public is invited to submit comments on the collection(s) listed below.

DATES: Comments should be received on or before April 28, 2023 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Departmental Offices (DO)

Title: Local Assistance and Tribal Consistency Fund (LATCF).

OMB Control Number: 1505-0276.

Type of Review: Revision of a currently approved collection.

Abstract: Section 605 of the Social Security Act, as added by section 9901 of the American Rescue Plan Act of 2021, established the Local Assistance and Tribal Consistency Fund (the “LATCF”), which appropriates $2 billion in total funding across fiscal years 2022 and 2023 to Treasury to make payments to eligible revenue sharing counties and eligible Tribal governments (collectively, “eligible governments”). Specifically, for each of fiscal years 2022 and 2023, Treasury shall reserve $250 million of the total amount appropriated to allocate and pay to eligible Tribal governments and $750 million of the total amount appropriated to allocate and pay to eligible revenue sharing counties. Under this program, recipients have broad discretion on uses of funds, similar to the ways in which they may use funds generated from their own revenue sources.

Form: Records Retention and Access Requirement, Payment Information Forms and associated information; Obligation and Expenditure Reports.

Affected Public: Tribal and County governments.

Estimated Number of Respondents: 8,651.

Estimated Number of Responses per Respondent: 1.

Estimated Average Time per Response: 1 hour.

Estimated Frequency of Response: Once, On Occasion, Annually.

Estimated Total Annual Burden Hours: 9,304 hours.

Authority: 44 U.S.C. 3501 et seq.

Melody Braswell,
Treasury PRA Clearance Officer.

[FR Doc. 2023-06419 Filed 3-28-23; 8:45 am]

BILLING CODE 4810-25-P